DEPARTMENT OF COMMERCE

International Trade Administration

[A-122-856, A-570-032]

Certain Iron Mechanical Transfer Drive Components From Canada and the People's Republic of China: Postponement of Preliminary Determinations of Antidumping Duty Investigations

AGENCY: Enforcement and Compliance, International Trade Administration, Department of Commerce.

DATES: Effective March 10, 2016.

FOR FURTHER INFORMATION CONTACT: Stephen Baily at (202) 482-0193 (Canada); Krisha Hill or Jonathan Hill at (202) 482-4037 and (202) 482-3518, respectively (the People's Republic of China (the PRC)); AD/CVD Operations, Enforcement and Compliance, International Trade Administration, U.S. Department of Commerce, 14th Street and Constitution Avenue NW., Washington, DC 20230.

SUPPLEMENTARY INFORMATION:

Background

On November 25, 2015, the Department of Commerce (Department) initiated antidumping duty investigations on certain iron mechanical transfer drive components from Canada and the PRC.¹ Section 733(b)(1)(A) of the Tariff Act of 1930, as amended (the Act), and 19 CFR 351.205(b)(1) state the Department will make a preliminary determination no later than 140 days after the date of the initiation. The current deadline for the preliminary determinations of these investigations is no later than April 11, 2016.²

¹ See Certain Iron Mechanical Transfer Drive Components from Canada and the People's Republic of China: Initiation of Less-Than-Fair-Investigations, 80 FR 73716 (November 25, 2015).

² The current deadline of April 11, 2016, accounts for the four-day tolling of deadlines pursuant to inclement weather in January 2016. See January 27, 2016, Memorandum to the Record from Ron Lorentzen, Acting Assistant Secretary for Enforcement and Compliance, entitled “Tolling of Administrative Deadlines as a Result of the Government Closure during Snowstorm `Jonas'.”

Postponement of Preliminary Determinations

On February 19, 2016, TB Woods Incorporated (Petitioner) made a timely request, pursuant to 19 CFR 351.205(e), for postponement of the preliminary determinations, in order to provide the Department with sufficient time to develop the record in these proceedings through additional questionnaires, which Petitioner will in turn need time to analyze and possibly comment on. Because there are no compelling reasons to deny Petitioner's request, in accordance with section 733(c)(1)(A) of the Act, the Department is postponing the deadline for the preliminary determinations by 50 days.

For the reasons stated above, the Department, in accordance with section 733(c)(1)(A) of the Act, is postponing the deadline for the preliminary determinations to no later than 190 days after the date on which the Department initiated these investigations. Therefore, the new deadline for the preliminary determinations is May 31, 2016. In accordance with section 735(a)(1) of the Act, the deadline for the final determinations of these investigations will continue to be 75 days after the date of the preliminary determinations, unless postponed at a later date.

This notice is issued and published pursuant to section 733(c)(2) of the Act and 19 CFR 351.205(f)(1).

Dated: March 2, 2016.
Paul Piquado,
Assistant Secretary for Enforcement and Compliance.

[FR Doc. 2016-05448 Filed 3-9-16; 8:45 am]

BILLING CODE 3510-DS-P